DEPARTMENT OF HEALTH AND HUMAN SERVICES

Food and Drug Administration

[Docket No. 1999N-1168]

Relative Risk to Public Health From Foodborne Listeria Monocytogenes Among Selected Categories of Ready-to-Eat Foods; Quantitative Risk Assessment and Risk Management Action Plan; Notice of Public Meeting; Correction

AGENCY: Food and Drug Administration, HHS.

ACTION: Notice of public meeting; correction.

SUMMARY: The Food and Drug Administration (FDA) is correcting a document that announced a public meeting to be held on December 4, 2003, in the Federal Register of November 7, 2003 (68 FR 63108). The location of the meeting at the FDA Center for Food Safety and Applied Nutrition Harvey W. Wiley Building in College Park, MD was incorrect. This document corrects that error.

FOR FURTHER INFORMATION CONTACT: Lori Pisciotta, Center for Food Safety and Applied Nutrition (HFS-006), Food and Drug Administration, 5100 Paint Branch Pkwy., College Park, MD 20740, 301-436-2279, FAX: 301-436-2630, e-mail: lpisciot@cfsan.fda.gov.

SUPPLEMENTARY INFORMATION: In FR Doc. 03-28005, appearing on page 63108 in the Federal Register of Friday, November 7, 2003, the following correction is made:

1. On page 63109, in the first column, under the Location paragraph, the correct address reads as follows: Harvey W. Wiley Building, 5100 Paint Branch Pkwy., College Park, MD 20740-3835.

Dated: November 26, 2003.
Jeffrey Shuren,
Assistant Commissioner for Policy.

[FR Doc. 03-30076 Filed 11-28-03; 11:23 am]

BILLING CODE 4160-01-S